FEDERAL MARITIME COMMISSION

Ocean Transportation Intermediary License; Reissuance

Notice is hereby given that the following Ocean Transportation Intermediary license has been reissued by the Federal Maritime Commission pursuant to section 19 of the Shipping Act of 1984 (46 U.S.C. Chapter 409) and the regulations of the Commission pertaining to the licensing of Ocean Transportation Intermediaries, 46 CFR Part 515.

License No. | Name/address | Date reissued
020056N | A.M.C. Shipping, LLC 79 Edna Avenue, Bridgeport, CT 06610 | November 1, 2009.

Sandra L. Kusumoto,
Director, Bureau of Certification and Licensing.

[FR Doc. 2010-1072 Filed 1-20-10; 8:45 am]

BILLING CODE 6730-01-P